NUCLEAR REGULATORY COMMISSION

10 CFR Parts 50, 72, and 73

RIN 3150-AG63

Power Reactor Security Requirements; Reopening of Public Comment Period

AGENCY: U.S. Nuclear Regulatory Commission.

ACTION: Proposed rule: Reopening of public comment period.

SUMMARY: On October 26, 2006 (71 FR 62664), the Nuclear Regulatory Commission (NRC) published for public comment a proposed rule that would amend its current security regulations and would add new security requirements pertaining to nuclear power reactors. Additionally, this rulemaking includes new proposed security requirements for Category I strategic special nuclear material (SSNM) facilities for access to enhanced weapons and firearms background checks. A 75-day comment period was provided for the proposed rule that expired on January 9, 2007. The comment period for the information collection aspects of the proposed rule expired on November 27, 2006. The comment period for this rulemaking was extended on January 5, 2007 (72 FR 480) to close on February 23, 2007. In the same notice, the comment period for the information collection aspects of the rulemaking was extended to January 11, 2007.

The comment period for the proposed rule has been reopened and now expires on March 26, 2007. This includes an extension to the comment period on the information collection aspects of the rulemaking to have both comment periods close on the same day.

DATES: The comment period for the proposed rule has been reopened and now expires on March 26, 2007. This applies to all aspects of the rulemaking, both general comments, as well as comments on the information collection aspects of the rulemaking. Comments received after this date will be considered if it is practical to do so, but the Commission is able to ensure consideration only for comments received before this date.

ADDRESSES: Mail written comments to: Secretary, U.S. Nuclear Regulatory Commission, Washington, DC 20555-0001, ATTN: Rulemakings and Adjudications Staff.

Hand delivered comments should also be addressed to the Secretary, U.S. Nuclear Regulatory Commission, and delivered to 11555 Rockville Pike, Rockville, MD, between 7:30 am and 4:15 pm Federal workdays.

You may also provide comments via the NRC's interactive rulemaking Web site: http://ruleforum.llnl.gov. This site also provides the availability to upload comments as files (any format), if your Web browser supports that function. For information about the interactive rulemaking site, contact Ms. Carol Gallagher, (301) 415-5905; e-mail: CAG@nrc.gov.

Certain documents relating to this rulemaking, including comments received, may be examined at the NRC Public Document Room, 11555 Rockville Pike, Room O1-F21, Rockville, MD. The same documents may also be viewed and downloaded electronically via the rulemaking Web site: http://ruleforum.llnl.gov. Documents created or received at the NRC after November 1, 1999 are also available electronically at the NRC's Public Electronic Reading room on the Internet at http://www.nrc.gov/NRC/ADAMS/index.html. From this site, the public can gain entry into the NRC's Agencywide Document Access and Management System (ADAMS), which provides text and image files of NRC's public documents. For more information, contact the NRC Public Document Room Reference staff at 1-800-397-4209, 202-634-3273 or by e-mail to pdr@nrc.gov.

FOR FURTHER INFORMATION CONTACT: Mr. Timothy Reed, Office of Nuclear Reactor Regulation, U.S. Nuclear Regulatory Commission, Washington, DC 20555-0001; telephone (301) 415-1462; e-mail: TAR@nrc.gov or Mr. Dennis Gordon, Office of Nuclear Security and Incident Response, U.S. Nuclear Regulatory Commission, Washington, DC 20555-0001; telephone (301) 415-6671; e-mail: DXG@nrc.gov.

SUPPLEMENTARY INFORMATION: Due to inclement weather, a public meeting scheduled to be held on February 14, 2007 was postponed until March 9, 2007. The purpose of this meeting is to discuss the proposed rule with members of the public and thereby provide information to the public to help inform their comments on the proposed rulemaking. Subsequently on February 16, 2007, the NRC received two separate requests for extension of the comment period on the proposed rule from Riverkeeper, Inc., and the New York State Attorney General's Office. Both requests suggested an extension of the comment period until a date after the public meeting planned for February 14, 2007, was rescheduled. Riverkeeper requested a 60-day extension, while the New York State Attorney General's Office did not specify a particular date.

In order to enable this dialogue with stakeholders to take place prior to the close of the comment period on this proposed rule, and in response to requests from Riverkeeper and the New York State Attorney General, the comment period for the proposed rulemaking is reopened for an additional 30 days. This action is consistent with the NRC's desire to receive informed comments from external stakeholders on this proposed rulemaking. Note that the NRC is now extending the comment period on the information collection aspects of this rulemaking to close on the same day as the general comment period.

The deadline for comments on any aspect of this proposed rulemaking is extended to March 26, 2007.

Dated at Rockville, Maryland, this 22nd day of February, 2007.
For the Nuclear Regulatory Commission.
Annette L. Vietti-Cook,
Secretary of the Commission.

[FR Doc. E7-3473 Filed 2-27-07; 8:45 am]

BILLING CODE 7590-01-P